DEPARTMENT OF COMMERCE

Foreign-Trade Zones Board

[Order No. 1259]

Approval for Subzone Expansion, (Watches and Accessories), Foreign-Trade Subzone 39E, Fossil Partners, L. P.; Richardson and Dallas, TX

Pursuant to its authority under the Foreign-Trade Zones Act of June 18, 1934, as amended (19 U.S.C., 81a-81u), the Foreign-Trade Zones Board (the Board) adopts the following Order:

Whereas, the Dallas/Fort Worth International Airport Board, grantee of Foreign-Trade Zone 39, has requested authority, on behalf of Fossil Partners, L.P. (Fossil), which operates Subzone 39E at its watch and accessories warehousing/distribution facility located in the Dallas, Texas, area, to expand the subzone to include a site in Dallas, Texas, and to reinstate FTZ status at the original site in Richardson, Texas (FTZ Doc. 22-2002, filed 5/1/02);

Whereas, notice inviting public comment was given in the Federal Register (67 FR 31768, 5/10/02);

Whereas, the Board adopts the findings and recommendations of the examiner's report, and finds that the requirements of the FTZ Act and Board's regulations are satisfied, and that the proposal is in the public interest;

Now, therefore, the Board hereby approves the request, subject to the Act and the Board's regulations, including Section 400.28.

Signed at Washington, DC, this 21st day of November 2002.
Faryar Shirzad,
Assistant Secretary of Commerce for Import Administration, Alternate Chairman, Foreign-Trade Zones Board.

[FR Doc. 02-30625 Filed 12-2-02; 8:45 am]

BILLING CODE 3510-DS-P